DEPARTMENT OF THE INTERIOR

Bureau of Land Management

[LLNVE0000 L51100000.GN0000 LVEMF1200580; 12-08807; MO# 4500036816; TAS: 14X5017]

Notice of Availability of the Draft Environmental Impact Statement for the Arturo Mine Project, Elko County, NV

AGENCY: Bureau of Land Management, Interior.

ACTION: Notice of availability.

SUMMARY: In accordance with the National Environmental Policy Act of 1969, as amended (NEPA) and the Federal Land Policy and Management Act of 1976, as amended (FLPMA), the Bureau of Land Management (BLM) has prepared a Draft Environmental Impact Statement (EIS) for the Arturo Mine Project and by this notice is announcing the opening of the public comment period.

DATES: To ensure that comments will be considered, the BLM must receive written comments on the Arturo Mine Project Draft EIS within 45 days following the date the Environmental Protection Agency publishes their Notice of Availability in the Federal Register. The BLM will announce future meetings and any other public involvement activities at least 15 days in advance through public notices, news media releases, and/or mailings.

ADDRESSES: You may submit comments related to the Arturo Mine Project by any of the following methods:

• Email: ArturoMiningEIS@blm.gov.

• Fax: 775-753-0255; or

• Mail: Bureau of Land Management, Arturo Mine Project, Attention: John Daniel, Project Manager, 3900 Idaho Street, Elko, NV 89801.

Copies of the Arturo Mine Project Draft EIS are available in the BLM Elko District Office at the above address; and on line at http://www.blm.gov/nv/st/en/fo/elko_field_office/blm_information/nepa/nepa_archives/NEPA_Front.html.

FOR FURTHER INFORMATION CONTACT: John Daniel, Project Manager, telephone: 775-753-0277; address: 3900 Idaho Street, Elko, NV 89801; email: ArturoMiningEIS@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Barrick-Dee Mining Venture Inc., proposes to develop the Arturo Mine Project by expansion of the existing open-pit Dee Gold Mine which is currently in closure and reclamation. The Dee Gold Mine is 45 miles northwest of Elko in Elko County, Nevada. The proposed project would create approximately 2,774 acres of surface disturbance on public lands administered by the BLM. While dewatering is not proposed for this project, pit lakes would form as a result of cessation of dewatering at Goldstrike Mine, located approximately 8 miles to the southeast. An updated inventory of lands with wilderness characteristics was used for this project to inform the analysis of the EIS.

The project proposal would include the expansion of the existing open pit from one to three lobes, construction of two new waste-rock disposal storage facilities, a new heap leach facility, new support facilities to include an office, substation and associated power transmission lines, water wells, water distribution and sewer systems, landfill, mined material stockpile, communications site, stormwater control features, haul roads and an access road, and continued surface exploration.

Mill-grade ore would be transported to the Barrick Gold Mining, Inc.'s Goldstrike Mine using the Bootstrap Mine Haul Road and would be processed at the existing mill facilities located approximately 8 miles to the southeast of the proposed project. Low-grade ore would be processed on-site at the proposed heap leach pad and associated processing facilities. Mine operations and processing would continue for approximately 10 years, followed by an estimated 3 years of site closure and reclamation. Reclamation would occur concurrently with mining to the extent possible.

Cooperating agencies in the development of the EIS include the Nevada Department of Wildlife, the Environmental Protection Agency (EPA), and the Elko County Board of Commissioners. The Nevada Department of Widlife is concerned about loss of mule-deer and Greater Sage-Grouse habitat associated with mine disturbance. The EPA has previously raised concerns about potentially acid-generating material which may impact water resources, and the Elko County Board of Commissioners have raised concerns about economic impacts to local communities, including impacts to livestock grazing.

The notice of intent for the proposed project was published in the Federal Register on June 21, 2010. Dear Interested Party letters were mailed to 244 interested parties including tribes, Federal, State and local agencies.

The BLM received a total of 15 written comment submissions containing 140 individual items during the public scoping period. Most of the comments the BLM received were from Federal and State agencies.

Key issues identified by individuals, groups, and governmental entities during the scoping process include: Wildlife concerns (potential impacts to sage-grouse habitat and mule deer migration); cultural resources; livestock movement; access; discharges to surface water; air quality (including mercury); and impacts to stream drainages, seeps and springs resulting from groundwater drawdown. Additionally, the BLM received some comments in general support of the project.

Comments received during the scoping period were addressed and evaluated, and appropriate issues are incorporated into the draft EIS as project alternatives. These alternatives include partial pit backfilling, a single waste-rock storage facility, the no-action alternative, and the proposed project. The preferred alternative for the Arturo draft EIS is the proposed project.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Kenneth Miller,
Manager, Elko District Office.

[FR Doc. 2013-00952 Filed 1-17-13; 8:45 am]

BILLING CODE P